DEPARTMENT OF AGRICULTURE

Solicitation of Nominations for Members of the USDA Grain Inspection Advisory Committee

AGENCY: Agricultural Marketing Service, USDA.

ACTION: Notice to solicit nominees.

SUMMARY: The Department of Agriculture's (USDA) Agricultural Marketing Service (AMS) is seeking nominations for individuals to serve on the USDA Grain Inspection Advisory Committee (Advisory Committee). The Advisory Committee meets twice annually to advise AMS on the programs and services it delivers under the U.S. Grain Standards Act (USGSA). Recommendations by the Advisory Committee help AMS better meet the needs of its customers who operate in a dynamic and changing marketplace. The realignment of offices within the U.S. Department of Agriculture authorized by the Secretary's Memorandum dated November 14, 2017, eliminates the Grain Inspection, Packers and Stockyard Administration (GIPSA) as a standalone agency. The grain inspection activities formerly part of GIPSA are now organized under AMS.

DATES: AMS will consider nominations received by April 30, 2018.

ADDRESSES: Submit nominations for the Advisory Committee by completing form AD-755 and mail to:

• Kendra Kline, U.S. Department of Agriculture, 1400 Independence Ave. SW, Rm. 2043-S, Mail Stop 3614, Washington, DC 20250-3611, or

• Fax: 202-690-2333.

Form AD-755 may be obtained via USDA's website: http://www.gipsa.usda.gov/fgis/forms-fgis/ad755.pdf.

FOR FURTHER INFORMATION CONTACT: Kendra Kline, telephone (202) 690- 2410 or email Kendra.C.Kline@ams.usda.gov.

SUPPLEMENTARY INFORMATION: As required by section 21 of the USGSA (7 U.S.C. 87j), as amended, the Secretary of Agriculture (Secretary) established the Advisory Committee on September 29, 1981, to provide advice to the AMS Administrator on implementation of the USGSA. As specified in the USGSA, each member's term is 3 years and no member may serve successive terms.

The Advisory Committee consists of 15 members, appointed by the Secretary, who represent the interests of grain producers, processors, handlers, merchandisers, consumers, exporters, and scientists with expertise in research related to the policies in section 2 of the USGSA (7 U.S.C. 74). While members of the Advisory Committee serve without compensation, USDA reimburses them for travel expenses, including per diem in lieu of subsistence, for travel away from their homes or regular places of business in performance of Advisory Committee service (see 5 U.S.C. 5703).

A list of current Advisory Committee members and other relevant information are available on web at https://www.gipsa.usda.gov/fgis/advisorycommittee.aspx.

AMS is seeking nominations for individuals to serve on the Advisory Committee. Applications submitted during the previous nomination period, December 06, 2016-January 20, 2017, will be considered unless notification is provided the individual no longer is available for consideration.

Nominations are open to all individuals without regard to race, color, religion, gender, national origin, age, mental or physical disability, marital status, or sexual orientation. To ensure that recommendations of the Advisory Committee take into account the needs of the diverse groups served by the USDA, membership shall include, to the extent practicable, individuals with demonstrated ability to represent minorities, women, and persons with disabilities.

The final selection of Advisory Committee members and alternates is made by the Secretary.

Dated: March 12, 2018.
Greg Ibach,
Under Secretary, Marketing and Regulatory Programs.

[FR Doc. 2018-05314 Filed 3-15-18; 8:45 am]

BILLING CODE 3410-02-P